DEPARTMENT OF DEFENSE

Office of the Secretary

Notice of Designation of Chinese Military Companies Under the William M. (Mac) Thornberry NDAA for FY21

AGENCY: Office of the Under Secretary of Defense (Acquisition and Sustainment), Department of Defense.

ACTION: Notice of Chinese military companies.

SUMMARY: The Secretary of Defense has determined that the entities listed in the SUPPLEMENTARY INFORMATION section of this notice qualify as “Chinese military companies” in accordance with the William M. (Mac) Thornberry National Defense Authorization Act (NDAA) for Fiscal Year 2021 (FY21).

FOR FURTHER INFORMATION CONTACT: Jesse Salazar, (703) 697-0051.

SUPPLEMENTARY INFORMATION: Section 1260H of the William M. (Mac) Thornberry NDAA for FY21 (Pub. L. 116-283) directs the Secretary of Defense to continue to list “Chinese military companies” (CMCs) annually until December 31, 2030. Paragraph (a)(2) of this section directs the Secretary of Defense to publish the unclassified portion of such list in the Federal Register.

The Secretary of Defense has determined that the following entities qualify as “Chinese military companies” in accordance with Section 1260H of the William M. (Mac) Thornberry NDAA for FY21 (Pub. L. 116-283):

Aerospace CH UA V Co., Ltd

Aerosun Corporation

Aviation Industry Corporation of China, Ltd. (AVIC)

AVIC Aviation High-Technology Company Limited

AVIC Heavy Machinery Company Limited

AVIC Jonhon Optronic Technology Co., Ltd.

AVIC Shenyang Aircraft Company Limited

AVIC Xi'an Aircraft Industry Group Company Ltd.

China Aerospace Science and Industry Corporation Limited (CASIC)

China Communications Construction Company Limited (CCCC)

China Communications Construction Group (Limited) (CCCG)

China Electronics Corporation (CEC)

China Electronics Technology Group Corporation (CETC)

China General Nuclear Power Corporation (CGN)

China Marine Information Electronics Company Limited

China Mobile Communications Group Co., Ltd.

China Mobile Limited

China National Nuclear Corporation (CNNC)

China National Offshore Oil Corporation (CNOOC)

China North Industries Group Corporation Limited (Norinco Group)

China Railway Construction Corporation Limited (CRCC)

China South Industries Group Corporation (CSGC)

China SpaceSat Co., Ltd.

China State Shipbuilding Corporation Limited (CSSC)

China Telecom Corporation Limited

China Telecommunications Corporation

China Unicom (Hong Kong) Limited

China United Network Communications Group Co., Ltd. (China Unicom)

CNOOC Limited

Costar Group Co., Ltd.

Fujian Torch Electron Technology Co., Ltd.

Hangzhou Hikvision Digital Technology Co., Ltd. (Hikvision)

Huawei Investment & Holding Co., Ltd.

Huawei Technologies Co., Ltd.

Inner Mongolia First Machinery Group Co., Ltd.

Inspur Group Co., Ltd.

Jiangxi Hongdu Aviation Industry Co., Ltd.

Semiconductor Manufacturing International (Beijing) Corporation

Semiconductor Manufacturing International (Shenzhen) Corporation

Semiconductor Manufacturing International (Tianjin) Corporation

Semiconductor Manufacturing International Corporation (SMIC)

Semiconductor Manufacturing South China Corporation

SMIC Holdings Limited

SMIC Hong Kong International Company Limited

SMIC Northern Integrated Circuit Manufacturing (Beijing) Co., Ltd

SMIC Semiconductor Manufacturing (Shanghai) Co., Ltd

Zhonghang Electronic Measuring Instruments Company Limited

Dated: June 23, 2021.
Aaron T. Siegel,
Alternate OSD Federal Register Liaison Officer, Department of Defense.

[FR Doc. 2021-13753 Filed 6-25-21; 8:45 am]

BILLING CODE 5001-06-P